ENVIRONMENTAL PROTECTION AGENCY

[FRL-9156-8]

Approval of a Petition for Exemption from Hazardous Waste Disposal Injection Restrictions to Cabot Corporation Tuscola, Tuscola, IL

AGENCY: Environmental Protection Agency.

ACTION: Notice of final decision on petition.

SUMMARY: Notice is hereby given by the United States Environmental Protection Agency (EPA) that an exemption to the land disposal restrictions under the 1984 Hazardous and Solid Waste Amendments (HSWA) to the Resource Conservation and Recovery Act (RCRA) has been granted to Cabot Corporation Tuscola Plant (Cabot Corporation) of Tuscola, Illinois, for two Class I injection wells located in Tuscola, Illinois. As required by 40 CFR part 148, Cabot Corporation has demonstrated, to a reasonable degree of certainty, that there will be no migration of hazardous constituents out of the injection zone or into an underground source of drinking water (USDW) for at least 10,000 years. This final decision allows the continued underground injection by Cabot Corporation of specific restricted wastes from the silica production processes (codes D002, F003, and F039 under 40 CFR part 261), into two Class I hazardous waste injection wells specifically identified as Injection Wells No. 2 and No. 3 at the Tuscola facility. This decision constitutes a final EPA action for which there is no Administrative Appeal.

DATES: This action is effective as of June 1, 2010.

FOR FURTHER INFORMATION CONTACT: Dana Rzeznik, Lead Petition Reviewer, EPA, Region V, telephone (312) 353-6492. Copies of the petition and all pertinent information relating thereto are on file and are part of the Administrative Record. It is recommended that you contact the lead reviewer prior to reviewing the Administrative Record.

SUPPLEMENTARY INFORMATION:

Background

Cabot Corporation submitted a petition for renewal of an existing exemption from the land disposal restrictions of hazardous waste on March 8, 2007. EPA personnel reviewed all data pertaining to the petition, including, but not limited to, well construction, well operations, regional and local geology, seismic activity, penetrations of the confining zone, and computational models of the injection zone. EPA has determined that the geologic setting at the site as well as the construction and operation of the well are adequate to prevent fluid migration out of the injection zone within 10,000 years, as required under 40 CFR part 148. The injection zone at this site is composed of the Upper Franconia, Potosi, Eminence and Oneota formations at depths between 4,442 feet and 5,400 feet below ground level. The confining zone is the Shakopee formation at depths between 4,101 feet and 4,442 feet below ground level. The confining zone is separated from the lowermost underground source of drinking water (at a depth of 2700 feet below ground level) by a sequence of permeable and less permeable sedimentary rocks, which provide additional protection from fluid migration into drinking water sources.

EPA issued a draft decision, which described the reasons for granting this exemption in more detail, a fact sheet, which summarized these reasons, and a public notice on December 28, 2009, pursuant to 40 CFR 124.10. The public comment period expired on February 1, 2010. EPA received no comments on the proposed exemption granted to Cabot Corporation. A final exemption is therefore granted as proposed.

Conditions

This exemption is subject to the following conditions. Non-compliance with any of these conditions is grounds for termination of the exemption:

(1) All regulatory requirements in 40 CFR 148.23 and 148.24 are incorporated by reference;

(2) The exemption applies to two existing injection wells, Well #2 and Well #3 located at the Cabot Corporation facility at 700 E. U.S. Highway 36, in the City of Tuscola in Douglas County, Illinois;

(3) Injection is limited to that part of Upper Franconia, Potosi, Eminence and Oneota formations at depths between 4,442 and 5,400 feet;

(4) Only wastes denoted by the waste codes D002, F003 and F039 may be injected;

(5) The concentrations of constituents of the injected waste will not exceed the amounts listed in Table 1-1 in the petition document;

(6) The volume of wastes injected in any month through the wells must not exceed 17,280,000 gallons;

(7) This exemption is approved for the 21-year modeled injection period, which ends on December 31, 2027. Cabot Corporation may petition EPA for a reissuance of the exemption beyond that date, provided that a new and complete petition and no-migration demonstration is received at EPA, Region 5, by July 1, 2027;

(8) Cabot Corporation shall quarterly submit to EPA a report containing a fluid analysis of the injected waste which shall indicate the chemical and physical properties upon which the no-migration petition was based, including the physical and chemical properties listed in Conditions 5 and 6 of this exemption approval;

(9) Cabot Corporation shall annually submit to EPA a report containing the results of a bottom hole pressure survey (fall-off test) performed on Well #2 and Well #3 (alternating years). The survey shall be performed after shutting in the well for a period of time sufficient to allow the pressure in the injection interval to reach equilibrium, in accordance with 40 CFR 146.68(e)(1). The annual report shall include a comparison of reservoir parameters determined from the fall-off test with parameters used in the approved no-migration petition;

(10) The petitioner shall fully comply with all requirements set forth in Underground Injection Control Permit UIC-011-CC issued by the Illinois Environmental Protection Agency; and

(11) Whenever EPA determines that the basis for approval of a petition may no longer be valid, EPA may terminate this exemption and will require a new demonstration in accordance with 40 CFR 148.20.

Dated: March 5, 2010.
Tinka G. Hyde,
Director, Water Division, EPA Region 5.

[FR Doc. 2010-13089 Filed 5-28-10; 8:45 am]

BILLING CODE 6560-50-P